DEPARTMENT OF ENERGY

Federal Energy Regulatory Commission

Combined Notice of Filings #1

Take notice that the Commission received the following Complaints and Compliance filings in EL Dockets:

Docket Numbers: EL23-48-000.

Applicants: Ponderosa Power, LLC v. North Western Corporation.

Description: Complaint of Ponderosa Power, LLC v. North Western Corporation.

Filed Date: 3/20/23.

Accession Number: 20230320-5128.

Comment Date: 5 p.m. ET 4/10/23.

Take notice that the Commission received the following electric rate filings:

Docket Numbers: ER21-378-003.

Applicants: Mississippi Power Company.

Description: Compliance filing: Gulf States TFA Order No. 864 Supplemental Further Compliance Filing to be effective 1/27/2020.

Filed Date: 3/21/23.

Accession Number: 20230321-5113.

Comment Date: 5 p.m. ET 4/11/23.

Docket Numbers: ER22-2462-002; EL22-27-001.

Applicants: Alabama Power Company, Georgia Power Company, Mississippi Power Company, Alabama Power Company, Georgia Power Company, Mississippi Power Company.

Description: Southern Companies submits a Compliance Filing with respect to a revised version of its Formula Rate Protocols as directed in January 19, 2023 Commission Order.

Filed Date: 3/20/23.

Accession Number: 20230320-5203.

Comment Date: 5 p.m. ET 4/10/23.

Docket Numbers: ER23-1427-000.

Applicants: American Electric Power Service Corporation, Ohio Power Company, PJM Interconnection, L.L.C.

Description: § 205(d) Rate Filing: American Electric Power Service Corporation submits tariff filing per 35.13(a)(2)(iii: AEP submits one Facilities Agreements re: ILDSA, SA No. 1336 to be effective 5/21/2023.

Filed Date: 3/21/23.

Accession Number: 20230321-5014.

Comment Date: 5 p.m. ET 4/11/23.

Docket Numbers: ER23-1428-000.

Applicants: PJM Interconnection, L.L.C.

Description: § 205(d) Rate Filing: Original ISA, Service Agreement No. 6827; Queue No. AE1-108 to be effective 2/21/2023.

Filed Date: 3/21/23.

Accession Number: 20230321-5016.

Comment Date: 5 p.m. ET 4/11/23.

Docket Numbers: ER23-1429-000.

Applicants: Midcontinent Independent System Operator, Inc.

Description: § 205(d) Rate Filing: 2023-03-21_SA 4015 NSP-Mayhew Creek Solar FSA (J1445) to be effective 5/21/2023.

Filed Date: 3/21/23.

Accession Number: 20230321-5020.

Comment Date: 5 p.m. ET 4/11/23.

Docket Numbers: ER23-1430-000.

Applicants: Southwest Power Pool, Inc.

Description: § 205(d) Rate Filing: Revisions to Attachment AE to Modify the Regulation Mileage Compensation Design to be effective 12/31/9998.

Filed Date: 3/21/23.

Accession Number: 20230321-5027.

Comment Date: 5 p.m. ET 4/11/23.

Docket Numbers: ER23-1431-000.

Applicants: PJM Interconnection, L.L.C.

Description: § 205(d) Rate Filing: Revisions to OATT and OA RE Market Suspension Rules to be effective 6/1/2023.

Filed Date: 3/21/23.

Accession Number: 20230321-5031.

Comment Date: 5 p.m. ET 4/11/23.

Docket Numbers: ER23-1432-000.

Applicants: Southern California Edison Company.

Description: Tariff Amendment: Cancel High Desert Power Project IFA (TOT005_SA No. 11) to be effective 5/21/2023.

Filed Date: 3/21/23.

Accession Number: 20230321-5044.

Comment Date: 5 p.m. ET 4/11/23.

Docket Numbers: ER23-1433-000.

Applicants: PacifiCorp.

Description: § 205(d) Rate Filing: Constellation FKA Exelon NITSA (OR DA) SA 943 Rev 5 to be effective 3/1/2023.

Filed Date: 3/21/23.

Accession Number: 20230321-5049.

Comment Date: 5 p.m. ET 4/11/23.

Docket Numbers: ER23-1434-000.

Applicants: Sugar Maple Wind, LLC.

Description: Baseline eTariff Filing: Shared Facilities Agreement Between Big Savage, LLC and Sugar Maple Wind, LLC to be effective 5/21/2023.

Filed Date: 3/21/23.

Accession Number: 20230321-5096.

Comment Date: 5 p.m. ET 4/11/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 21, 2023.
Debbie-Anne A. Reese,
Deputy Secretary.

[FR Doc. 2023-06368 Filed 3-27-23; 8:45 am]

BILLING CODE 6717-01-P